COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds services to the Procurement List that will be provided by nonprofit agencies employing persons who are blind or have other severe disabilities, and deletes products and services from the Procurement List previously furnished by such agencies.

DATES: Effective Date—1/22/2017.

ADDRESSES: Committee for Purchase From People Who Are Blind or Severely Disabled, 1401 S. Clark Street, Suite 715, Arlington, Virginia 22202-4149.

FOR FURTHER INFORMATION CONTACT: Barry Lineback, Telephone: (703) 603-7740, Fax: (703) 603-0655, or email CMTEFedReg@AbilityOne.gov.

SUPPLEMENTARY INFORMATION:

Additions

On 10/7/2016 (81 FR 69789-69790) and 11/10/2016 (81 FR 78996-78997), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Services

Service Type: Retail Operation Support Service

Mandatory for: GSA FAS, GSA Global Supply Store, 5250 Gibson Avenue, Joint Base Elmendorf Richardson, AK

Mandatory Source(s) of Supply: M.C. Resource Management, Anchorage, AK

Contracting Activity: General Services Administration, Federal Acquisition Service, Washington, DC

Service Type: Mailroom Support Service

Mandatory for: U.S. Air National Guard, Air National Guard Readiness, Center Receiving & Document Control Center, Joint Base Andrews, MD

Mandatory Source(s) of Supply: ServiceSource, Inc., Oakton, VA

Contracting Activity: Dept of the Army, W39L USA NG READINESS CENTER

Service Type: Document Control and Conversion Support Service

Mandatory for: Federal Communications Commission, FCC HQ, Washington, DC

Mandatory Source(s) of Supply: Linden Resources, Inc., Arlington, VA

Contracting Activity: U.S. Federal Communications Commission, Office of Managing Director, Enterprise Acquisition Center, Washington, DC

Deletions

On 11/10/2016 (81 FR 78996-78997) and 11/18/2016 (81 FR 81744-81745), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

7510-01-545-3778—DAYMAX System, 2015, Calendar Pad, Type II

7510-01-545-3782—DAYMAX System, 2015, Calendar Pad, Type I

Mandatory Source(s) of Supply: Anthony Wayne Rehabilitation Center for Handicapped and Blind, Inc., Fort Wayne, IN

Contracting Activity: General Services Administration, New York, NY

Services

Service Type: Document Destruction Service

Mandatory Source(s) of Supply: Source America (Prime Contractor)

Contracting Activity: Dept. of the Treasury/Internal Revenue Service, Washington, DC

Mandatory for:

Internal Revenue Service Offices at the following locations:

Defiance: 208 Perry St, Defiance, OH

Lorain: 300 Broadway, Lorain, OH

Painesville: 8 North State Street, Painesville, OH

Steubenville: 500 Market Street, Steubenville, OH

Warrendale: 547 Keystone Drive, Warrendale, PA

Weaver Industries, Inc., Akron, OH (Subcontractor)

Creekside IV: 12 Cadillac Dr., Ste 400, Brentwood, TN

The Orange Grove Center, Inc., Chattanooga, TN (Subcontractor)

11620 Caroline Road, Philadelphia, PA

9815 B Roosevelt Blvd., Philadelphia, PA

Opportunity Center, Incorporated, Wilmington, DE (Subcontractor)

Greensboro: 2303 W Meadowview Road, Greensboro, NC

Winston Salem: 251 N Main Street, Winston Salem, NC

OE Enterprises, Inc., Hillsborough, NC (Subcontractor)

201 Como Park Blvd., Cheektowaga, NY

1314 Griswald Plaza, Erie, PA

7th & State Street, Erie, PA

Lifetime Assistance, Inc., Rochester, NY (Subcontractor)

2628 S Cherry Avenue, Fresno CA

5104 N. Blyth, Fresno CA

890 West Ashlan, Fresno CA

1728 Van Ness, Fresno CA

The ARC Fresno/Madera Counties, Fresno, CA (Subcontractor)

Indy Bldg: 7525 East 39th Street, Indianapolis, IN

Evansville: 7409 Eagle Crest Blvd., Evansville, IN

Shares Inc., Shelbyville, IN (Subcontractor)

Mobile: 1110 Montlimar Dr., Mobile, AL

One Pensacola Plaza: 125 W Romana Street, Pensacola, FL

Wiregrass Rehabilitation Center, Inc., Dothan, AL (Subcontractor)

675 W. Moana Lane, Reno, NV

Beacon Group, Inc., Tucson, AZ (Subcontractor)

921 N. Nova Boulevard, Holly Hill, FL

Challenge Enterprises of North Florida, Inc., Green Cove Springs, FL (Subcontractor)

Cross Point Tower One: 900 Chelmsford Street, Lowell, MA

53 North Sixth Street, New Bedford, MA

AccessPoint RI, Cranston, RI (Subcontractor)

Jackson: 234 Louis Glick Hwy, Jackson, MI

Community Enterprises of St. Clair County, Port Huron, MI (Subcontractor)

Multiple Locations Chicago IL

Glenkirk, Northbrook, IL (Subcontractor)

Grand Rapids: 678 Front Street NW., Grand Rapids, MI

Portage: 8075 Creekside Drive, Portage, MI

South Bend: One Michiana Square, South Bend, IN

Benton Harbor: 777 Riverview Drive, Benton Harbor, MI

Gateway, Berrien Springs, MI (Subcontractor-Deleted)

101 Park Deville Drive, Columbia, MO

919 Jackson Street, Chillicothe, MO

3702 W. Truman Blvd., Suite 113, Jefferson City, MO

Mission: 5799 Broadmoor St., Mission, KS

JobOne, Independence, MO (Subcontractor)

10 Metrotech Center, New York, NY

10 Richmond Terrace, New York, NY

107 Charles Lindbergh Blvd., Garden City, NY

30 Montgomery Street, Jersey City, NJ

518A East Main Street, Riverhead, NY

NYSARC, Inc., NYC Chapter, New York, NY (Subcontractor)

Beaufort: 1212 Charles Street, Beaufort, SC

Florence County Disabilities and Special Needs Board, Florence, SC (Subcontractor)

Chillicothe: 1534 North Bridge St., Chillicothe, OH

The Plains: 70 N. Plains Road, The Plains, OH

Zanesville: 710 Main St., Zanesville, OH

Greene, Inc., Xenia, OH (Subcontractor)

11 South 12th Street Richmond, VA

600 Main Street Richmond, VA

Goodwill Services, Inc., Richmond, VA (Subcontractor)

6021 Durand Avenue, Suite 600, Racine, WI

Janesville: 20 E Milwaukee St., Ste. 204, Janesville, WI

Sheboygan: 2108 Kohler Memorial Dr., Sheboygan, WI

Goodwill Industries of Southeastern Wisconsin, Milwaukee, WI (Subcontractor)

2201 Cantu Court, Sarasota, FL

300 Lock Road, Deerfield Beach, FL

Goodwill Industries of South Florida, Miami, FL (Subcontractor)

Effingham: 405 South Banker Street, Effingham, IL

United Cerebral Palsy of the Land of Lincoln, Springfield, IL (Subcontractor)

Springfield: 3333 S. National Ave, Springfield, MO

El Dorado: 1115 North Madison Ave, El Dorado, AR

Pine Bluff: 100 East 8th Ave, Pine Bluff, AR

United Cerebral Palsy of Central Arkansas Little Rock, AR (Subcontractor)

Corporate Plaza 1: 8100 Corporate Drive, Hyattsville, MD

Customer Service Site: 120 Charles Street, Baltimore, MD

Athelas Institute, Inc., Hyattsville, MD (Subcontractor)

Patricia Briscoe,
Deputy Director, Business Operations, (Pricing and Information Management).

[FR Doc. 2016-31053 Filed 12-22-16; 8:45 am]

BILLING CODE 6353-01-P